DEPARTMENT OF THE INTERIOR

Fish and Wildlife Service

Endangered Species Recovery Permit Application

AGENCY: Fish and Wildlife Service, Interior.

ACTION: Notice of receipt of a permit application.

SUMMARY: The following applicant has applied for an enhancement of propagation or survival permit to conduct certain activities with endangered species pursuant to section 10(a)(1)(A) of the Endangered Species Act. The U.S. Fish and Wildlife Service (“we”) solicits review and comment from local, State and Federal agencies, and the public on the following permit request.

DATES: Comments on this permit application must be received on or before February 9, 2006.

ADDRESSES: Written data or comments should be submitted to the U.S. Fish and Wildlife Service, Chief, Endangered Species, Ecological Services, 911 NE. 11th Avenue, Portland, Oregon 97232-4181 (fax: 503-231-6243). Please refer to the permit number when submitting comments. All comments received, including names and addresses, will become part of the official administrative record and may be made available to the public.

FOR FURTHER INFORMATION CONTACT: Documents and other information submitted with this application are available for review, subject to the requirements of the Privacy Act and Freedom of Information Act, by any party who submits a written request for a copy of such documents within 30 days of the date of publication of this notice to the address above (telephone: 503-231-2063). Please refer to the permit number when requesting copies of documents.

SUPPLEMENTARY INFORMATION:

Permit No. TE-114934

Applicant: Idaho Department of Fish and Game, Boise, Idaho.

The applicant requests a permit to take (harass by survey, capture, handle, collar, take blood samples, relocate, sacrifice, and release) the gray wolf (Canis lupus) in conjunction with wolf management activities in the State of Idaho north of Interstate 90, for the purpose of enhancing its survival.

The applicant proposes to: (a) Conduct monitoring of wolf populations; and (b) coordinate non-lethal and lethal control actions to reduce wolf conflicts with livestock and dogs. These actions are currently coordinated by the U.S. Fish and Wildlife Service (Service). If the permit is issued, the applicant would take on responsibility for managing wolves in northern Idaho. Wolf management activities would be in accordance with the requirements of the State of Idaho Wolf Conservation and Management Plan (March 2002) and the Service's Interim Wolf Control Plan for Northwestern Montana and the Panhandle of Northern Idaho (Control Plan) (September 1999).

If issued, the permit would not affect ongoing wolf management in the remainder of the State of Idaho conducted in accordance with the non-essential experimental population regulations found at 50 CFR 17.84(n).

We have determined that a practical, responsive management program is essential to enhancing survival of the wolf in the wild (Service 1987; Service 1994; Service 1999). The program must respond to wolf-livestock conflicts, while promoting wolf recovery objectives. The Control Plan provides guidelines for: (a) Determining problem wolf status (including investigative procedures and criteria), (b) conducting wolf control actions, and (c) disposition of problem wolves.

We have made a preliminary determination that issuance of this permit would be categorically excluded from further consideration under the National Environmental Policy Act of 1969 (NEPA). If issued, the permit would authorize Idaho Department of Fish and Game to manage wolves in the same manner that the Service has in the 6 years since the Control Plan was adopted for northern Idaho. No additional environmental impacts would be expected beyond those analyzed in the Service's 1988 Environmental Assessment, the Service's 1999 Environmental Action Memorandum, and the Control Plan. The effect of the permit would be to allow continuation of previously analyzed and authorized activities; therefore, its issuance would be an administrative action.

Our preliminary NEPA categorical exclusion determination, the two wolf plans noted above, and the Idaho Department of Fish and Game permit application, can be found at: http://www.fws.gov/pacific/ecoservices/endangered/recovery/default.htm.

Additional information about wolf recovery and conservation in the northwestern United States, including control of problem wolves, can be found in various reports at: http://westerngraywolf.fws.gov/.

All comments received from individuals become part of the official public record. Requests for such comments will be handled in accordance with the Freedom of Information Act and the Council on Environmental Quality's National Environmental Protection Act regulations [40 CFR 1506.6(f)]. Our practice is to make comments, including names and addresses of respondents, available for public review during regular business hours. Individual respondents may request that we withhold their home address from the record, but this must be stated prominently at the beginning of their comments. We will honor these requests to the extent allowable by law.

We solicit public review and comment on this recovery permit application.

Authority: This document is published under the authority of the Endangered Species Act of 1973, as amended (16 U.S.C. 1531 et seq.).

Dated: December 13, 2005.
David J. Wesley,
Acting Regional Director, Region 1, U.S. Fish and Wildlife Service.

[FR Doc. E6-93 Filed 1-9-06; 8:45 am]

BILLING CODE 4310-55-P